FEDERAL COMMUNICATIONS COMMISSION

47 CFR Part 73

[DA 25-121; FR ID 280112]

Radio Broadcasting Services; Various Locations

AGENCY: Federal Communications Commission.

ACTION: Final rule.

SUMMARY: This document amends the Table of FM Allotments, of the Federal Communications Commission's (Commission) rules, by removing certain vacant FM allotment channels that were auctioned through our FM competitive bidding process and are no longer considered vacant FM allotments. The FM allotments are currently authorized licensed stations. FM assignments for authorized stations and reserved facilities will be reflected solely in Media Bureau's Licensing Management System (LMS). These FM allotment channels have previously undergone notice and comment rule making. This action constitutes an editorial change in the FM Table of Allotments. Therefore, we find for good cause that further notice and comment are unnecessary.

DATES: Effective February 19, 2025.

FOR FURTHER INFORMATION CONTACT: Rolanda F. Smith, Media Bureau, (202) 418-2054, Rolanda-Faye.Smith@fcc.gov.

SUPPLEMENTARY INFORMATION: This is a synopsis of the Commission's Order, adopted February 10, 2025, and released February 10, 2025. The full text of this Commission decision is available online at https://apps.fcc.gov/ecfs/. The full text of this document can also be downloaded in Word or Portable Document Format (PDF) at https://www.fcc.gov/edocs. This document does not contain information collection requirements subject to the Paperwork Reduction Act of 1995, Public Law 104-13. The Commission will not send a copy of the Order in a report to be sent to Congress and the Government Accountability Office pursuant to the Congressional Review Act, see 5 U.S.C. 801(a)(1)(A), because the Order is a ministerial action.

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), amend table 1 (Table of FM Allotments) by:

a. Removing the entries for “Desert Hills” and “Tusayan” under Arizona;

b. Removing the entries for “Boonville,” “Cartago,” “Cottonwood,” “Essex,” “Ft. Bragg,” “Ludlow,” “Randsburg,” and “Sacramento” under California;

c. Removing the entries for “Eckley,” “Hugo,” and “Stratton” under Colorado;

d. Removing the entry for “Fort Walton Beach” under Florida;

e. Removing the entry for “Pembroke” under Georgia;

f. Removing the entry for “Abingdon” under Illinois;

g. Removing the entries for “Dunkerton” and “Rockford” under Iowa;

h. Removing the entry for “Orange” under Massachusetts;

i. Removing the entries for “Custer,” “Houghton,” and “Pigeon” under Michigan;

j. Removing the entries for “Cleveland” and “New Albany” under Mississippi;

k. Removing the entry for “Maryville” under Missouri;

l. Removing the entry for “Bayard” under Nebraska;

m. Removing the entry for “Tonopah” under Nevada;

n. Removing the entry for “Jefferson” under New Hampshire;

o. Removing the entries for “Chama” and “Skyline-Ganipa” under New Mexico;

p. Removing the entries for “Narrowsburg,” “Sagaponack,” “Shelter Island,” and “Westfield” under New York;

q. Removing the entry for “Gackle” under North Dakota;

r. Removing the entry for “Edgefield” under South Carolina;

s. Removing the entry for “Englewood” under Tennessee;

t. Under Texas:

i. Removing the entry for “Albany;”

ii. Revising the entries for “Carrizo Springs,” “Junction,” and “Mullin;”

iii. Removing the entry for “Olney;”

iv. Revising the entries for “Premont” and “Richland Springs;”

v. Removing the entries for “Roscoe” and “Rule;”

vi. Revising the entry for “San Isidro;” and

vii. Removing the entries for “Sanger” and “Wells;”

u. Removing the entries for “Huntington” and “Paragonah” under Utah;

v. Removing the entry for “West Rutland” under Vermont;

w. Removing the entries for “Kahlotus,” “Raymond,” and “Trout Lake” under Washington;

x. Removing the entries for “Crandon” and “Tomahawk” under Wisconsin; and

y. Under Wyoming:

i. Removing the entries for “Albin,” “Cora,” and “Rawlins;” and

ii. Revising the entry for “Wheatland.”

The revisions read as follows:

§ 73.202 Table of Allotments.

* * * * *

(b) * * *

Table 1 to Paragraph (b)
[U.S. States]
| Channel No.
* * * * *
Texas
* * * * *
Carrizo Springs | 295A
* * * * *
Junction | 228C2, 290A
* * * * *
Mullin | 224A
* * * * *
Premont | 287A
Richland Springs | 299A
* * * * *
San Isidro | 255A
* * * * *
Wyoming
* * * * *
Wheatland | 286A
* * * * *

[FR Doc. 2025-02756 Filed 2-18-25; 8:45 am]

BILLING CODE 6712-01-P